DEPARTMENT OF THE INTERIOR

Bureau of Land Management

[LLCAC069000 L17110000.AL0000 14XL1109AF]

Notice of Public Meeting of the Carrizo Plain National Monument Advisory Council

AGENCY: Bureau of Land Management, Interior.

ACTION: Notice of public meeting.

SUMMARY: In accordance with the Federal Land Policy and Management Act and the Federal Advisory Committee Act of 1972, the U.S. Department of the Interior, Bureau of Land Management (BLM) Carrizo Plain National Monument Advisory Council (MAC) will meet as indicated below.

DATES: The meeting will be held on Saturday, March 15, 2014, at the Carrisa Plains Elementary School, located approximately 2 miles northwest of Soda Lake Road on Highway 58. The meeting will begin at 10:00 a.m. and finish at 2:00 p.m. The meeting will focus on scoping for the Travel Management Plan. There will be a public comment period from 1:00 p.m. to 2:00 p.m. Lunch will be available for under $10.

FOR FURTHER INFORMATION CONTACT: The BLM, Johna Hurl, Monument Manager, Bakersfield Field Office, 3801 Pegasus Drive, Bakersfield, CA 93308, (661) 391-6093, jhurl@blm.gov or John Kelley, Carrizo Program Support Technician, Bakersfield Field Office, 3801 Pegasus Drive, Bakersfield, CA 93308, (661) 391-6088, jtkelley@blm.gov.

SUPPLEMENTARY INFORMATION: The ten-member MAC advises the Secretary of the Interior, through the BLM, on a variety of public land issues associated with public land management in the Carrizo Plain National Monument in Central California. At this meeting, Monument staff will present the proposed Travel Management Plan for the Monument. This meeting is open to the public. Depending on the number of persons wishing to comment and the time available, the time allotted for individual oral comments may be limited. Individuals who plan to attend and need special assistance such as sign language interpretation or other reasonable accommodations should contact the BLM as indicated above.

Dated: February 12, 2014.
Gabriel Garcia,
Field Manager, Bakersfield Field Office.

[FR Doc. 2014-04550 Filed 2-28-14; 8:45 am]

BILLING CODE 4310-40-P